NATIONAL AERONAUTICS AND SPACE ADMINISTRATION

Notice [04-145]

Notice of Establishment of a NASA Advisory Committee, Pursuant to the Federal Advisory Committee Act, 5 U.S.C. App. 1 et seq.

AGENCY: National Aeronautics and Space Administration (NASA).

Explanation of Need: The Administrator of the National Aeronautics and Space Administration has determined that the establishment of the NASA Summit Industry Panel 2005 is necessary and in the public interest in connection with the performance of duties imposed upon NASA by law. This determination follows consultation with the Committee Management Secretariat, General Services Administration.

Name of Committee: Summit Industry Panel 2005.

Purpose and Objective: The Panel will draw on the expertise of its members and other sources to provide its advice and recommendations to the Associate Administrator for Space Operations on plans, policies, programs, and other matters pertinent to the Space Operations Mission Directorate's responsibilities, including integrating and implementing aerospace industry approaches, resources, and capabilities to support the Space Shuttle Program (SSP), the International Space Station (ISS), and future needs of the Agency as applicable to the preparation and conduct of the Integrated Space Operations Summit (ISOS) currently scheduled for 2005. The Panel will hold meetings and make site visits as necessary to accomplish their responsibilities. The Panel will function solely as an advisory body and will comply fully with the provisions of the Federal Advisory Committee Act.

Lack of Duplication of Resources: The Panel's functions cannot be performed by the agency, another existing committee, or other means such as a public meeting.

Fairly Balanced Membership: Membership will be selected from among industry representatives to ensure a balanced representation of expertise and points of view in scientific and technical areas relevant to space flight and exploration.

Duration: Ad hoc.

Responsible NASA Official: Col. (Ret) Stephen Pitotti, Special Assistant for Program Integration for the Deputy Associate Administrator for Space Station and Shuttle, National Aeronautics and Space Administration, 300 E Street, SW., Washington, DC 20546, telephone (202) 358-4764.

P. Diane Rausch,
Advisory Committee Management Officer, National Aeronautics and Space Administration.

[FR Doc. 04-27149 Filed 12-9-04; 8:45 am]

BILLING CODE 7510-13-P